ENVIRONMENTAL PROTECTION AGENCY

[FRL-7577-8]

Peer-Consultation Workshop on Tropospheric Ozone Formation, Concentrations, Exposure Estimates and Health Effects

AGENCY: Environmental Protection Agency.

ACTION: Notice of a peer-consultation workshop and public meeting.

SUMMARY: Today the U.S. Environmental Protection Agency (EPA) announces an October 29-30, 2003, expert peer-consultation workshop to facilitate preparation of preliminary draft chapters that cover tropospheric ozone (formation, concentrations, and exposure estimates) and the effects of ozone exposure in laboratory animals and on humans for an external review draft of a revised EPA document, Air Quality Criteria for Ozone and Related Photochemical Oxidants. Science Applications International Corporation (SAIC), an EPA contractor, will organize, convene, and conduct the peer-consultation workshop. Workshop draft chapters on these topics, prepared by the EPA's National Center for Environmental Assessment within the Office of Research and Development, will be available to registered public observers at the workshop. NCEA will consider the workshop, peer-consultation advice in preparing revised chapters for later release for public comment.

DATES: The peer-consultation workshop will begin on Wednesday, October 29, 2003, at 8:30 a.m., and end on Thursday, October 30, 2003, at 5 p.m. Members of the public are invited to attend the workshop as observers.

ADDRESSES: The peer-consultation workshop will be held in the Auditorium of the U.S. Environmental Protection Agency, 109 T.W. Alexander Drive, Research Triangle Park, North Carolina 27709. Logistics and registration for the workshop are being arranged by SAIC, 11251 Roger Bacon Drive, Reston, VA 20190. To attend the workshop, register by Monday, October 27, 2003, by contacting Ms. Alina Martin, SAIC, at (703) 318-4678, or by sending a facsimile to (703) 736-0826. You can also register in advance via e-mail at tcs-events@saic.com. Space is limited, and reservations will be accepted on a first-come, first-serve basis. On-site registration on October 29-30, 2003, will be available, as space allows.

FOR FURTHER INFORMATION CONTACT: EPA's contractor, SAIC, should be contacted for details pertaining to the workshop, registration, and logistics. For technical information contact: James Raub, U.S. EPA, NCEA-RTP, B243-01, Research Triangle Park, NC 27711; telephone: (919) 541-4157; facsimile: (919) 541-1818; or e-mail: raub.james@epa.gov.

SUPPLEMENTARY INFORMATION: As discussed in a previous call for information (65 FR 57810, September 26, 2000), EPA is in the process of updating, and revising where appropriate, the document Air Quality Criteria for Ozone and Related Photochemical Oxidants (Ozone Criteria Document), as issued in July 1996. Sections 108 and 109 of the Clean Air Act require that EPA carry out a periodic review and revision, where appropriate, of the air quality criteria and national ambient air quality standards (NAAQS) for “criteria” air pollutants such as ozone.

As part of the review of the air quality criteria for ozone, a series of peer-consultation workshops are being convened to discuss and help prepare draft sections and chapters for the revised Ozone Criteria Document. Preliminary outlines of the proposed chapters were presented in the draft Project Work Plan released for public comment and for review by the Clean Air Scientific Advisory Committee of EPA's Science Advisory Board (66 FR 67524, December 31, 2001; 68 FR 3527, January 24, 2003). The first peer-consultation workshop was held on April 22 and 23, 2003 (68 FR 17365, April 19, 2003), to help develop a draft chapter on the environmental effects of ozone.

Copies of the draft materials for this next consultation workshop will be made available to the public at the workshop. Workshop draft sections and chapters will be revised for inclusion in the First External Review Draft of the Ozone Air Quality Criteria Document to be released later for public comment and for review by the Clean Air Scientific Advisory Committee (CASAC) of EPA's Science Advisory Board. EPA will announce the availability of this draft in a subsequent Federal Register notice and, at that time, will provide ample opportunity for public review and submission of written comments.

Interested parties are invited to assist the EPA in further developing and refining the scientific information base by identifying and submitting new information on the potential health and environmental effects of ozone. To be considered for inclusion in the criteria document, submitted information should be published or be accepted for publication in a peer-reviewed scientific journal.

Dated: October 17, 2003.
Peter W. Preuss,
Director, National Center for Environmental Assessment.

[FR Doc. 03-26752 Filed 10-21-03; 8:45 am]

BILLING CODE 6560-50-P